DEPARTMENT OF STATE

[Public Notice 5573]

Transitional Application Deadline for Adoption Service Providers Applying for Accreditation, Temporary Accreditation, or Approval Under the Intercountry Adoption Act of 2000

AGENCY: Department of State.

ACTION: Notice.

SUMMARY: Pursuant to the Intercountry Adoption Act of 2000 (the IAA), the Department of State (the Department) is the Central Authority for the United States for implementation of the 1993 Hague Convention on Protection of Children and Co-operation in Respect of Intercountry Adoption (the Convention). Under the Convention and the IAA, once the Convention enters into force for the United States, agencies and persons that seek to provide adoption services must generally be accredited, temporarily accredited, approved, or otherwise exempt. The United States intends to ratify the Convention once the necessary preparations for its implementation in the United States have been made.

In this public notice, the Department is announcing the transitional application deadline (TAD). In order for an agency or person to be accredited or approved as of the time the Convention enters into force for the United States or for an agency to be temporarily accredited, an agency or person must submit an application and the required fee(s) on or before the TAD to an accrediting entity with jurisdiction to evaluate its application. The Department has designated two accrediting entities. They are: The Council on Accreditation (COA) and Colorado's Department of Human Services. The TAD is November 17, 2006. See 22 CFR part 96.19 for further information on the TAD.

Agencies or persons that do not seek to be accredited or approved by the time the Convention enters into force for the United States may submit an application and the required fee(s) to an accrediting entity with jurisdiction to evaluate its application at any time after the TAD. Agencies seeking temporary accreditation must apply by the TAD.

FOR FUTHER INFORMATION CONTACT: Mikiko Stebbing, Accrediting Entity Liaison, at 202-736-9086. Hearing or speech-impaired persons may use the Telecommunications Devices for the Deaf (TDD) by contacting the Federal Information Relay Service at 1-800-877-8339. Application and fee information is available by contacting the appropriate accrediting entity at the following mailing address, e-mail address or telephone number: Council on Accreditation: Contact Beth Rubenstein, 212-797-3000 or e-mail: brubenstein@coanet.org or mailing address: Council on Accreditation, 120 Wall Street, 11th Floor, New York City, NY 10005 (http://www.coanet.org); Colorado Department of Human Services: Contact Lori Roxbury, 303-866-5475 or e-mail: lori.roxbury@state.co.us or mailing address: Colorado Department of Human Services, Division of Child Care, 1575 Sherman Street, First Floor, Denver, Colorado 80203. Applications for the Colorado Department of Human Services are limited to adoption service providers licensed in the State of Colorado.

SUPPLEMENTARY INFORMATION: Agencies whose applications are received after midnight on November 17, 2006 may not be accredited, temporarily accredited, or approved as of the time the Convention enters into force for the United States. Please send accreditation/approval applications to the appropriate designated accrediting entity at the address listed in the Contact Information section of this public notice. Do not send accreditation/approval applications to the Department. Please note that all applicants for temporary accreditation must apply by the TAD. Temporary accreditation is available only to agencies that performed fewer than 100 intercountry adoption cases in the year prior to the TAD and only for the one or two-year period following the Convention's entry into force for the United States. Please see 22 CFR 96.95 for further information on temporary accreditation.

Shortly after the TAD on November 17, 2006, the designated accrediting entities will make public the names and addresses of agencies and persons that have applied to be accredited, temporarily accredited, or approved. The accrediting entities will also provide a mechanism for the public to comment on applicants, and will consider, where appropriate, comments received from the public in their accreditation, temporary accreditation, and approval decisions.

The Department, in consultation with the designated accrediting entities, will subsequently establish and announce the deadline for initial accreditation or approval (the DIAA), the date by which the accreditation/approval process must be completed for an agency to be accredited, temporarily accredited, or approved at the time the Convention enters into force for the United States.

Designated accrediting entities must use their best efforts to provide a reasonable opportunity for an agency or person that applied by the TAD to complete the accreditation or approval process by the DIAA. The accrediting entities will not publicly release their accreditation (including temporary accreditation) and approval decisions until the uniform notification date, the date when the accrediting entities notify all adoption service providers that applied by the TAD of their accreditation or approval decisions.

Only those agencies and persons that are accredited, temporarily accredited, or approved by the DIAA will be included on the initial list of accredited and temporarily accredited agencies and approved persons that the Department will deposit with the Permanent Bureau of the Hague Conference on Private International Law. An agency or person may also apply for full accreditation (not temporary accreditation) or approval at any time after November 17, 2006 but such applicants may not be accredited or approved by the DIAA.

Dated: September 29, 2006.
Maura Harty,
Assistant Secretary, Bureau of Consular Affairs, Department of State.

[FR Doc. E6-16502 Filed 10-4-06; 8:45 am]

BILLING CODE 4710-06-P